DEPARTMENT OF STATE

[Public Notice 4266]

Shipping Coordinating Committee; Notice of Meeting

The Shipping Coordinating Committee (SHC) will conduct an open meeting at 9:30 a.m. on Wednesday, March 12, 2003 in Room 6103 of the U.S. Coast Guard Headquarters, 2100 Second Street, SW., Washington, DC 20593-0001. The primary purpose of the meeting is to prepare for the Eighth Session of International Maritime Organization (IMO) the Sub-Committee on Bulk Liquids and Gases to be held at the IMO Headquarters in London, England from March 24, 2003 to March 28, 2003.

The primary matters to be considered include:

—Matters related to the probabilistic methodology for oil outflow analysis

—Review of Annex I of International Convention for the Prevention of Pollution From Ships (MARPOL 73/78)

—Review of Annex II of MARPOL 73/78

—Evaluation of safety and pollution hazards of chemicals and preparation of consequential amendments

—Amendments to requirements on electrical installations in the International Bulk Chemical (IBC) and the International Gas Carrier (IGC) Codes

—Application of MARPOL requirements to Floating Production, Storage and Offloading/Floating Storage Units (FPSOs and FSUs)

—Requirements for personnel protection involved in the transportation of cargoes containing toxic substances in all types of tankers

—Oil tagging systems

—Revision of the fire protection requirements of the IBC and IGC Codes

—Ship recycling-related matters

Members of the public may attend this meeting up to the seating capacity of the room. For further information, please contact Commander J. M. Michalowski, at U.S. Coast Guard Headquarters, 2100 Second Street, SW., Washington, DC 20593-0001, telephone (202) 267-1217.

Dated: February 20, 2003.
Frederick J. Kenney,
Executive Secretary, Shipping Coordinating Committee, Department of State.

[FR Doc. 03-4613 Filed 2-26-03; 8:45 am]

BILLING CODE 4710-07-P